NUCLEAR REGULATORY COMMISSION

[NRC-2011-0006]

Sunshine Federal Register Notice

Agency holding the meetings: Nuclear Regulatory Commission.

Date: Weeks of September 5, 12, 19, 26, and October 3, 10, 2011.

Place: Commissioners' Conference Room, 11555 Rockville Pike, Rockville, Maryland.

Status: Public and Closed.

Week of September 5, 2011

There are no meetings scheduled for the week of September 5, 2011.

Week of September 12, 2011—Tentative

Wednesday, September 14, 2011

9 a.m.

Briefing on the Japan Task Force Report—Short-Term Actions (Public Meeting) (Contact: Rob Taylor, 301-415-3172).

This meeting will be webcast live at the Web address— http://www.nrc.gov.

Week of September 19, 2011—Tentative

There are no meetings scheduled for the week of September 19, 2011.

Week of September 26, 2011—Tentative

Tuesday, September 27, 2011

9 a.m.

Mandatory Hearing—Southern Nuclear Operating Co., et al.; Combined Licenses for Vogtle Electric Generating Plant, Units 3 and 4, and Limited Work Authorizations (Public Meeting) (Contact: Rochelle Bavol, 301-415-1651).

This meeting will be webcast live at the Web address— http://www.nrc.gov.

Week of October 3, 2011—Tentative

Thursday, October 6, 2011

9 a.m.

Briefing on NRC International Activities (Public Meeting) (Contact: Karen Henderson, 301-415-0202).

This meeting will be webcast live at the Web address— http://www.nrc.gov.

Week of October 10, 2011—Tentative

Tuesday, October 11, 2011

9 a.m.

Briefing on the Japan Task Force Report—Prioritization of Recommendations (Public Meeting) (Contact: Rob Taylor, 301-415-3172).

This meeting will be webcast live at the Web address— http://www.nrc.gov.

Wednesday, October 12, 2011

9 a.m.

Mandatory Hearing—South Carolina Public Service Authority (Also Referred to As Santee Cooper); Combined Licenses for Virgil C. Summer Nuclear Station, Units 2 and 3 (Public Meeting) (Contact: Rochelle Bavol, 301-415-1651).

This meeting will be webcast live at the Web address— http://www.nrc.gov.

* * * * *

* The schedule for Commission meetings is subject to change on short notice. To verify the status of meetings, call (recording)—(301) 415-1292. Contact person for more information: Rochelle Bavol, (301) 415-1651.

* * * * *

Additional Information

By a vote of 5-0 on August 29, 2011, the Commission determined pursuant to U.S.C. 552b(e) and § 9.107(a) of the Commission's rules that “Discussion of Management and Personnel Issues (Closed—Ex.2 and Ex.6)” be held August 29, 2011, and on less than one week's notice to the public.

By a vote of 5-0 on August 31, 2011, the Commission determined pursuant to U.S.C. 552b(e) and§ 9.107(a) of the Commission's rules that “Discussion of Management and Personnel Issues (Closed—Ex.2 and Ex.6)” be held August 31, 2011, and on less than one week's notice to the public.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by e-mail at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: September 1, 2011.
Rochelle Bavol,
Policy Coordinator, Office of the Secretary.

[FR Doc. 2011-22949 Filed 9-2-11; 4:15 pm]

BILLING CODE 7590-01-P